DEPARTMENT OF JUSTICE

Justice Management Division; Notice of Availability of the Revised FAIR Act Inventory

AGENCY: Department of Justice.

ACTION: Notice.

SUMMARY: In accordance with the requirements of section 2(c)(2)(B) of the Federal Activities Inventory Reform Act, notice is hereby given that the revised inventory of activities considered not to be inherently governmental functions is now publicly available. As a result of the challenges and appeals submitted predominantly by Federal employee unions, several functions have been deleted from the list that relate to law enforcement activities. A copy of the revised inventory may be obtained by requesting it through one of the following: E-mail to larry.silvis2@usdoj.gov; fax (202) 514-6145; or call Larry Silvas on (202) 616-3754.

Stephen R. Colgate,
Assistant Attorney General for Administration.

[FR Doc. 00-13055 Filed 5-23-00; 8:45 am]

BILLING CODE 4410-AR-M